DEPARTMENT OF HOMELAND SECURITY

Coast Guard

33 CFR Part 117

[Docket No. USCG-2017-0573]

Drawbridge Operation Regulation; Southern Branch of the Elizabeth River, Chesapeake, VA

AGENCY: Coast Guard, DHS.

ACTION: Notice of deviation from drawbridge regulation; modification.

SUMMARY: The Coast Guard has modified a temporary deviation from the operating schedule that governs the I-64 (High Rise) Bridge across the Atlantic Intracoastal Waterway, Southern Branch of the Elizabeth River, mile 7.1, at Chesapeake, VA. The deviation is necessary to facilitate routine maintenance. This deviation allows the bridge to remain in the closed-to-navigation position.

DATES: The modified deviation is effective without actual notice from November 22, 2017 through 11 p.m. on December 3, 2017. For purposes of enforcement, actual notice will be used from 11:01 p.m. on November 22, 2017, until November 22, 2017.

ADDRESSES: The docket for this deviation, [USCG-2017-0573] is available at http://www.regulations.gov. Type the docket number in the “SEARCH” box and click “SEARCH”. Click on Open Docket Folder on the line associated with this deviation.

FOR FURTHER INFORMATION CONTACT: If you have questions on this modified temporary deviation, call or email Mr. Mickey Sanders, Bridge Administration Branch Fifth District, Coast Guard; telephone (757) 398-6587, email Mickey.D.Sanders2@uscg.mil.

SUPPLEMENTARY INFORMATION: On September 26, 2017, the Coast Guard published a temporary deviation entitled “Drawbridge Operation Regulation; Southern Branch of the Elizabeth River, Chesapeake, VA” in the Federal Register (82 FR 44733). That document resulted from Virginia State Department of Transportation's request for a temporary deviation, occurring from 7 a.m. on October 2, 2017, through 11 p.m. on November 22, 2017, from the normal operation of the drawbridge to accommodate routine maintenance to bridge. Subsequent to the approval of that request, Virginia State Department of Transportation requested a modification to the temporary deviation, starting from 11:01 p.m. on November 22, 2017, through 11 p.m. on December 3, 2017, to allow more time to remove and replace the center locks and install new electrical wiring and lubrication piping. Therefore, through this document, the Coast Guard modifies the dates of the previously approved temporary deviation to allow the I-64 (High Rise) Bridge across the Atlantic Intracoastal Waterway, Southern Branch of the Elizabeth River, mile 7.1, at Chesapeake, VA, to remain in the closed-to-navigation position from Midnight on November 29, 2017, through 11 p.m. on December 3, 2017. At all other times, the bridge will open on signal if at least 24 hours notice is given. The bridge has a vertical clearance of 65 feet above mean high water in the closed position. The current operating schedule is set out in 33 CFR 117.997(e).

Vessels able to pass through the bridge in the closed position may do so if at least 15 minutes notice is given. The bridge will not be able to open for emergencies and there is no immediate alternate route for vessels unable to pass through the bridge in the closed position. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: November 17, 2017.
Hal R. Pitts,
Bridge Program Manager, Fifth Coast Guard District.

[FR Doc. 2017-25250 Filed 11-21-17; 8:45 am]

BILLING CODE 9110-04-P